ENVIRONMENTAL PROTECTION AGENCY

40 CFR Part 300

[EPA-HQ-SFUND-1983-0002; FRL-9978-25—Region 10]

National Oil and Hazardous Substances Pollution Contingency Plan; National Priorities List: Deletion of the Frontier Hard Chrome, Inc. Superfund Site

AGENCY: Environmental Protection Agency (EPA).

ACTION: Proposed rule; notice of intent.

SUMMARY: The Environmental Protection Agency (EPA) Region 10 is issuing a Notice of Intent to Delete Frontier Hard Chrome, Inc. (FHC) Superfund Site (Site) located in Vancouver, Washington, from the National Priorities List (NPL) and requests public comments on this proposed action. The NPL, promulgated pursuant to Section 105 of the Comprehensive Environmental Response, Compensation, and Liability Act (CERCLA) of 1980, is an appendix of the National Oil and Hazardous Substances Pollution Contingency Plan (NCP). The EPA and the State of Washington, through the Department of Ecology, have determined that all appropriate response actions under CERCLA have been completed. However, this deletion does not preclude future actions under Superfund.

DATES: Comments must be received by June 20, 2018.

ADDRESSES: Submit your comments, identified by Docket ID no. EPA-HQ-SFUND-1983-0002, by one of the following methods:

(1) http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

(2) Email: Laura Knudsen, Community Involvement Coordinator, at knudsen.laura@epa.gov.

(3) Mail: Laura, Knudsen, U.S. EPA Region 10, 1200 Sixth Avenue, Suite 155, RAD-202-3, Seattle, Washington 98101-3123.

(4) Hand delivery: Records Center, U.S. EPA Region 10, 1200 Sixth Avenue, Suite 155, Seattle, Washington. Monday through Friday, except Federal holidays, between 9:00 a.m. and 5:00 p.m. Such deliveries are only accepted during the Docket's normal hours of operation, and special arrangements should be made for deliveries of boxed information.

Instructions: Direct your comments to Docket ID no. EPA-HQ-SFUND-1983-0002. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov website is an “anonymous access” system, which means the EPA will not know your identity or contact information unless you provide it in the body of your comment. If you send an email comment directly to the EPA without going through http://www.regulations.gov, your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at: Records Center, U.S. EPA Region 10, 1200 Sixth Avenue, Suite 155, Seattle, Washington, Monday through Friday, except Federal holidays, between 9:00 a.m. and 5:00 p.m.; Vancouver Community Library, 901 C Street, Vancouver, Washington 98660, 360-906-5000 between 9:00 a.m. and 8:00 p.m. Monday to Thursday, or 10:00 a.m. and 6:00 p.m. Friday to Sunday.

FOR FURTHER INFORMATION CONTACT: Jeremy Jennings, Remedial Project Manager, U.S. EPA Region 10, 1200 Sixth Avenue, Suite 155, ECL-12, Seattle, Washington 98101-3123 206-553-2724, email jennings.jeremy@epa.gov.

SUPPLEMENTARY INFORMATION:

Table of Contents

I. Introduction

II. NPL Deletion Criteria

III. Deletion Procedures

IV. Basis for Intended Site Deletion

I. Introduction

The EPA Region 10 announces its intent to delete the Frontier Hard Chrome, Inc. Superfund Site from the National Priorities List (NPL) and requests public comment on this proposed action. The NPL constitutes Appendix B of 40 CFR part 300 which is the National Oil and Hazardous Substances Pollution Contingency Plan (NCP), which the EPA promulgated pursuant to Section 105 of the Comprehensive Environmental Response, Compensation and Liability Act (CERCLA) of 1980, 42 U.S.C. 9605. The EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

The EPA will accept comments on the proposal to delete this Site for thirty (30) days after publication of this document in the Federal Register.

Section II of this document explains the criteria for deleting sites from the NPL. Section III discusses procedures that the EPA is using for this action. Section IV discusses the Frontier Hard Chrome, Inc. Superfund Site and demonstrates how it meets the deletion criteria.

II. NPL Deletion Criteria

The NCP establishes the criteria that the EPA uses to delete sites from the NPL. In accordance with 40 CFR 300.425(e), sites may be deleted from the NPL where no further response is appropriate. In making such a determination pursuant to 40 CFR 300.425(e), the EPA will consider, in consultation with the State, whether any of the following criteria have been met:

(1) Responsible parties or other persons have implemented all appropriate response actions required;

(2) all appropriate Fund-financed response under CERCLA has been implemented, and no further response action by responsible parties is appropriate; or

(3) the remedial investigation has shown that the release poses no significant threat to public health or the environment and, therefore, the taking of remedial measures is not appropriate.

The EPA may initiate further action to ensure continued protectiveness at a deleted site if new information becomes available that indicates it is appropriate. Whenever there is a significant release from a site deleted from the NPL, the deleted site will be restored to the NPL without application of the hazard ranking system

III. Deletion Procedures

The following procedures apply to deletion of the Site:

(1) The EPA consulted with the State before developing this Notice of Intent to Delete.

(2) The EPA has provided the state 30 working days for review of this notice prior to publication of it today

(3) In accordance with the criteria discussed above, the EPA has determined that no further response is appropriate;

(4) The State of Washington, through the Department of Ecology, has concurred with deletion of the Site from the NPL.

(5) Concurrently with the publication of this Notice of Intent to Delete in the Federal Register, a notice is being published in a major local newspaper, the Columbian. The newspaper notice announces the 30-day public comment period concerning the Notice of Intent to Delete the Site from the NPL.

(6) The EPA placed copies of documents supporting the proposed deletion in the deletion docket and made these items available for public inspection and copying at the Site information repositories identified above.

If comments are received within the 30-day public comment period on this document, the EPA will evaluate and respond appropriately to the comments before making a final decision to delete. The EPA will prepare a Responsiveness Summary to address any significant public comments or data received during the public comment period. After the public comment period, if the EPA determines it is still appropriate to delete the Site, the Regional Administrator will publish a final Notice of Deletion in the Federal Register. Public notices, public submissions and copies of the Responsiveness Summary, if prepared, will be made available to interested parties and in the Site information repositories listed above.

Deletion of a site from the NPL does not itself create, alter, or revoke any individual's rights or obligations. Deletion of a site from the NPL does not in any way alter the EPA's right to take enforcement actions, as appropriate. The NPL is designed primarily for informational purposes and to assist EPA management. Section 300.425(e)(3) of the NCP states that the deletion of a site from the NPL does not preclude eligibility for future response actions, should future conditions warrant such actions.

IV. Basis for Intended Site Deletion

The following information provides the EPA's rationale for deleting the Site from the NPL:

Site Background and History

The ½-acre Frontier Hard Chrome (FHC), Inc. Superfund Site (EPA ID: WAD053614988) is located at 113 Y Street, Vancouver, Clark County, Washington, approximately ¾ mile north of the Columbia River. The area was once dominated by light industry but has transitioned to commercial and residential uses. Between 1958 and 1983, two chrome plating businesses, Pioneer Plating (1958 to 1970) and Frontier Hard Chrome (1970 to 1983) occupied the Site. Since 1983, the Site has been used by various businesses. A commercial storage facility and parking lot are currently being constructed at the Site.

In 1976, untreated chromium plating wastes from FHC's operations were temporarily rerouted from the sanitary sewer to an on-Site dry well while an on-site treatment system was constructed. Despite several enforcement actions, the treatment system was never designed or constructed. In January 1983, the Washington Department of Ecology (Ecology) ordered FHC to stop the discharge of chromium plating wastes to the dry well and to prepare a plan to investigate the groundwater. Before taking any action, FHC closed the business.

In 1982, an industrial supply well about ¼ mile from the Site was found to be contaminated with chromium at more than twice the federal drinking water standard referred to as the “maximum contaminant level” (MCL). Further investigation, indicated the presence of a plume with elevated chromium concentrations downgradient of the dry well on the FHC property.

In December 1982, the EPA proposed that the Site be included on the NPL established by the EPA under Section 105(a) of CERCLA, 42 U.S.C. 9605(a) (47 FR 58476). Following consideration of public comments, the listing was finalized by the EPA in September 1983 (48 FR 40658).

Remedial Investigation and Feasibility Study (RI/FS)

In 1984, Ecology initiated the Remedial Investigation (RI). Initial testing found total chromium levels in groundwater beneath the Site that were more than 2,000 times the MCL [50 micrograms per liter (µg/L)] and had spread approximately 1,600 feet southwest of the source. Later, total chromium concentrations in groundwater near the former dry well were found as high as 300,000 µg/L.

Chromium in soils near the former dry well were identified as the source of the groundwater contamination at FHC. Total chromium levels in surface soils were reported as high as 5,200 milligrams per kilogram (mg/kg) and hexavalent chromium as high as 42mg/kg. Subsurface soil concentrations for total and hexavalent chromium were reported as high as 31,800 mg/kg and 7,506 mg/kg, respectively. Elevated chromium levels were found up to 20 feet below the ground surface and extended beyond the southern property boundary.

Selected Remedy

The EPA issued a December 1987 Operable Unit 1 (OU 1) Record of Decision (ROD) to address contaminated soils and source areas, and a July 1988 OU 2 ROD to address contaminated groundwater. The objectives of the OU1 soil remedy were to protect human health by preventing the direct exposure to chromium contaminated soils and dusts and to protect the groundwater by controlling the source of the contamination and included excavation, chemical treatment by a chemical binding agent, and off-Site disposal. Based on a Site-specific leachate test, all soils with total chromium concentrations greater than 550 mg/kg (approximately 7,400 cubic yards of soil) were removed and disposed of offsite.

The remedy selected in the OU 2 ROD called for extraction of groundwater from the areas where levels of chromium exceeded 50,000 µg/L, followed by treatment using selective media ion exchange and discharge to the Columbia River or Vancouver's sewer system. To prevent consumption of contaminated drinking water, institutional controls would be used to restrict the use of groundwater in and around the contaminated plume.

During the remedial design for OU 1, bench scale tests indicated that the stabilization methods selected in the remedy would likely not be effective at preventing the leaching of hexavalent chromium from Site soils. In response, the EPA initiated a Focused Feasibility Study that identified and evaluated several new and innovative technologies for addressing the contamination remaining at the Site. The results of bench scale testing indicated that In-Situ Redox Manipulation (ISRM) would be the most effective technology to address the cleanup objectives.

On August 30, 2001, the EPA issued a ROD amendment (RODA) modifying the remedial action selected in the 1987 and 1988 RODs. The amended remedy called for an ISRM Treatment Barrier to be installed at the southern edge of the groundwater hot spot and for reducing compounds to be injected into the contaminated soils and groundwater upgradient of the barrier. After injection, the reductant reacted with naturally occurring iron in the soils to create a permeable reactive zone, thereby reducing hexavalent chromium to trivalent chromium. Groundwater downgradient of the barrier would be restored through natural dispersion and dilution. Regular monitoring would be conducted until all groundwater met the cleanup level of 50 µg/L. Institutional controls (ICs) that limited access to contaminated soils and groundwater and future activities that threaten to remobilize chromium in Site soils were to be evaluated and implemented.

Response Actions

In 1994, to reduce the threat of direct exposure and further impacts to groundwater from the most heavily contaminated surface soils, Ecology excavated surface soils with chromium concentrations above 210 mg/kg (approximately 160 cubic yards) and disposed of them off-Site. The area was backfilled with clean material and a commercial office building was constructed on the property.

In December 2000, in conjunction with a local drainage project, the EPA extended a tight-lined drain pipe with road drains and catch basins to the south and west of the Site. The extension allowed stormwater to drain away from the FHC Site, thus preventing further infiltration of surface water through contaminated soils and into groundwater.

From 2001 to 2003, the EPA designed and implemented the ISRM Treatment selected in the 2001 RODA. Chemical reductant was first injected along the southern edge of an area with the highest chromium levels in the groundwater, forming the ISRM barrier, and then applied to source area soils and groundwater upgradient of the barrier. On September 22, 2003, the EPA signed a Preliminary Close-Out Report documenting the completion of construction activities. On September 28, 2012, the Site was designated as “Sitewide Ready for Anticipated Use”.

In 2003 the EPA also reviewed existing local and state controls that would protect the public from exposure to soils and groundwater impacted by past releases at the Site. The EPA determined that existing controls sufficiently limited access to contaminated soils and groundwater and that no additional ICs were required. Even so, when approached in 2004 by a perspective developer interested in purchasing the property, the EPA entered into an Agreement and Covenant Not to Sue with the developer. The Agreement was recorded on the property deeds and required compliance with seven institutional controls, including prohibitions on the installation of groundwater wells and use of groundwater.

In February 2004, a Long-Term Monitoring Plan was developed by the EPA to track the size of the chromium plume downgradient of the Site and to ensure the protectiveness of the remedy. In 2007, the size of the network and the frequency of sampling were reduced. The final sampling event took place in 2016.

Cleanup Levels

The cleanup levels established in the RODA were based on federal drinking water standards, State cleanup levels established under the Model Toxics Control Act (MTCA), and State surface water standards. Consistent with MTCA, cleanup levels for hexavalent and trivalent chromium in soils were set at 19 mg/kg and 80,000 mg/kg respectively. Also based on MTCA, a groundwater cleanup level of 50 µg/L total chromium was established. Finally, the State's chronic surface water standards were used to establish a cleanup level of 10.5 µg/L for groundwater immediately upgradient of the Columbia River.

Following the 2016 sampling event, the EPA reviewed the data and found that, over the last several years, total chromium had only been detected at one well and that the groundwater concentrations at that well were below the cleanup level of 50 µg/L (WellB-87-8; 8.82 µg/L total chromium). A statistical analysis indicated the groundwater had attained the cleanup level and was expected to continue to do so in the future. Since monitoring began in 2004, the total chromium concentration in the wells closest to the river (well W99-R5A W99-R5B) have been below the cleanup level of 10.5µg/L set for groundwater immediately upgradient of the Columbia River.

A Final Close-Out Report documenting completion of all remedial actions was signed by the EPA on January 29, 2018. The report documented that all soil and groundwater Remedial Action Objectives (RAOs) and cleanup levels established in the 2001 RODA had been attained, the remedy had been successfully implemented, and no further CERCLA actions were required at the Site. However, in 2018, all remaining monitoring wells will be decommissioned by Ecology. No additional monitoring or Operations and Maintenance of the remedy are required.

Five-Year Review

Three policy five-year reviews (FYR) have been completed at the Site, the last one in January 2018.

No issues or follow-up actions were identified as part of the 2018 Five-Year Review. The protectiveness statement read: “Because the remedial actions at OU 1 and OU 2 are protective, the site is protective of human health and the environment.”

The analysis conducted concurrent with the last FYR indicates that the remedy has been fully implemented and the remedial action objectives and related cleanup levels have been attained. No hazardous substances, pollutants or contaminants remain above levels that could prevent unlimited use and unrestricted exposure (UU/UE). Therefore, no further five-year reviews are required.

Community Involvement

Public participation activities have been satisfied as required in CERCLA Section 113(k), 42 U.S.C. 9613(k) and CERCLA Section 117, 42 U.S.C. 9617. Throughout the remedial process, the EPA has kept the public informed of activities being conducted at the Site by way of informational meetings, fact sheets and public meetings.

Documents in the deletion docket which the EPA relied on for the recommendation for deletion from the NPL are available to the public at the information repositories identified previously. Concurrent with this notice, a notice of availability of the Notice of Intent for Deletion has been published in The Columbian, initiating a 30-day public comment period. EPA will review all comments received before making a final decision on this proposed deletion action.

Determination That the Site Meets the Criteria for Deletion in the NCP

The EPA, with concurrence of the State of Washington through the Department of Ecology, has determined that the implemented remedy achieves the degree of cleanup or protection specified in the RODs and RODA for all pathways of exposure. All selected remedial and removal action objectives and associated cleanup levels are consistent with agency policy and guidance. No further Superfund response is needed to protect human health and the environment.

In accordance with 40 CFR 300.425(e), sites may be deleted from the NPL where all appropriate response actions have been implemented and where no further response is appropriate. Consistent with this, the EPA is proposing deletion of this Site from the NPL.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: May 3, 2018.
Chris Hladick,
Regional Administrator, Region 10.

[FR Doc. 2018-10796 Filed 5-18-18; 8:45 am]

BILLING CODE 6560-50-P